DEPARTMENT OF HEALTH AND HUMAN SERVICES

Centers for Disease Control and Prevention

[30Day-16-16TZ]

Agency Forms Undergoing Paperwork Reduction Act Review

The Centers for Disease Control and Prevention (CDC) has submitted the following information collection request to the Office of Management and Budget (OMB) for review and approval in accordance with the Paperwork Reduction Act of 1995. The notice for the proposed information collection is published to obtain comments from the public and affected agencies.

Written comments and suggestions from the public and affected agencies concerning the proposed collection of information are encouraged. Your comments should address any of the following: (a) Evaluate whether the proposed collection of information is necessary for the proper performance of the functions of the agency, including whether the information will have practical utility; (b) Evaluate the accuracy of the agencies estimate of the burden of the proposed collection of information, including the validity of the methodology and assumptions used; (c) Enhance the quality, utility, and clarity of the information to be collected; (d) Minimize the burden of the collection of information on those who are to respond, including through the use of appropriate automated, electronic, mechanical, or other technological collection techniques or other forms of information technology, e.g., permitting electronic submission of responses; and (e) Assess information collection costs.

To request additional information on the proposed project or to obtain a copy of the information collection plan and instruments, call (404) 639-7570 or send an email to omb@cdc.gov. Written comments and/or suggestions regarding the items contained in this notice should be directed to the Attention: CDC Desk Officer, Office of Management and Budget, Washington, DC 20503 or by fax to (202) 395-5806. Written comments should be received within 30 days of this notice.

Proposed Project

Formative Research to Develop HIV Social Marketing Campaigns for Healthcare Providers—New—National Center for HIV/AIDS, Viral Hepatitis, STD, and TB Prevention (NCHHSTP), Centers for Disease Control and Prevention (CDC).

Background and Brief Description

According to recent estimates, approximately 1.2 million people are living with human immunodeficiency virus (HIV) in the United States, and for the past several years, approximately 50,000 people have been diagnosed annually. It is well-established that certain populations are disproportionately affected by HIV, including men who have sex with men (MSM), African Americans, Hispanics/Latinos, and transgender communities.

In part, to address these health disparities, CDC first published guidelines for HIV testing in health care settings in 2003. CDC updated this guidance to reflect changes in the evidence base in 2006. As the prevention landscape has evolved, so too has CDC's guidance for health care providers. Most recently, CDC published guidelines for health care providers on pre-exposure prophylaxis (PrEP) and recommendations for HIV prevention with adults and adolescents with HIV. Despite clear and compelling guidance from CDC, past studies have shown that patient-provider communication about HIV testing and prevention is uncommon and conversations that do take place tend to be brief.

CDC has developed four social marketing campaigns to support patient-provider communication about HIV. These campaigns have made great strides in addressing health care providers' information needs, thereby building their capacity to discuss HIV prevention with their patients. At this juncture, particularly with the evolving HIV prevention landscape, more data are needed to deepen our understanding of providers' interpretation and understanding of existing and emergent HIV prevention science; how providers use guidance or evidence-based approaches in their practices generally as well with populations that have been largely overlooked (e.g., transgender individuals); and how to develop new or enrich existing provider materials to make them more informative, appealing, and usable.

The three-year study proposes a series of in-depth interviews with 600 healthcare providers (i.e., physicians, physician assistants, and nurses) identified by contractor staff and professional recruiting firms. Data will be collected through one-time, hour-long, individual, in-depth interviews accompanied by a computer-assisted personal interview (total of 1 hour and 15 minutes per person). We anticipate screening 1,200 individuals to obtain 600 individuals who will participate in a 1-hour, in-depth interview and complete a 15-minute computer-assisted personal interview (web-based) survey. All data collections will be conducted only one time. Respondents who will participate in these interviews will be selected purposively to inform the development of appropriate messaging and materials for healthcare providers. Topic areas addressed within the interviews may include HIV prevention, HIV treatment, and linkage and referral to services. Data will be securely stored on password-protected computers and in locked file cabinets.

The information gathered through this data collection will allow CDC to develop timely, relevant, clear, and engaging materials that continue to support patient-provider communications related to HIV prevention. Participation of respondents is voluntary, and there is no cost to respondents other than their time.

The total estimated annualized burden hours are 950.

Estimated Annualized Burden Hours
Type of respondent | Form name | Number of respondents | Number of responses per respondent | Average burden per response (in hours)
Health care providers | Screener Web-based survey | 1,200 600 | 1 1 | 10/60 15/60
| Interviews | 600 | 1 | 1
| Exploratory guide—Prevention with positives and retention in care | 50 | 1 | 1
| Exploratory guide—Transgender health | 50 | 1 | 1
| Exploratory guide—HIV prevention | 50 | 1 | 1
| Message testing guide | 150 | 1 | 1
| Concept testing guide | 150 | 1 | 1
| Materials testing guide | 150 | 1 | 1

Leroy A. Richardson,
Chief, Information Collection Review Office, Office of Scientific Integrity, Office of the Associate Director for Science, Office of the Director, Centers for Disease Control and Prevention.

[FR Doc. 2016-23340 Filed 9-27-16; 8:45 am]

BILLING CODE 4163-18-P